DEPARTMENT OF HEALTH AND HUMAN SERVICES

Substance Abuse and Mental Health Services Administration

The President's New Freedom Commission on Mental Health; Notice of Web-Based Public Comment Section

Pursuant to Executive Order 13263, notice is hereby given of the web-based public comment section of the President's New Freedom Commission on Mental Health's website, www.MentalHealthCommission.gov.

The President's New Freedom Commission on Mental Health is soliciting public comment from stakeholders in the mental health community. The purpose of obtaining public comment is to assist the Commission in formulating an action plan for the President that will improve America's mental health service delivery system.

While all relevant comments are of interest and may be submitted to the Commission at any time, several topics will be listed on the website for public comment. All selected topics for public comment reflect the President's charge, as outlined in Executive Order 13263. The topics listed on the website will change, focusing first on identifying problems and barriers within the system, and later on identifying solutions. Comments relating to the first set of topics will be most helpful to the Commission if submitted by August 20, 2002. An additional set of topics will be posted after that time.

All comments received prior to December 31, 2002 will be collected and the themes will be included in Commission reports. Comments will still be accepted after December 31, 2002 and will be available for Commissioner review.

The public may provide comments to the Commission through three methods:

(1) The Web site, www.MentalHealthCommission.gov. Comments that relate to topics on the web page can be sent electronically or printed off and mailed to the Commission: 5600 Fishers Lane, Parklawn Building, Room 13C-26, Rockville, MD 20857;

(2) Mail written comments or information to the Commission; or

(3) Present comments directly to the Commission during the public comment period held at every Commission meeting. For guidelines on presenting public comment, visit the Web site, www.MentalHealthCommission.gov.

Committee Name: President's New Freedom Commission on Mental Health

Contact: Claire Heffernan, Executive Secretary, 5600 Fishers Lane, Parklawn Building, Room 13C-26, Rockville, MD 20857, Telephone: (301) 443-1545; Fax: (301) 480-1554 and e-mail: Cheffern@samhsa.gov

Dated: July 15, 2002.
Toian Vaughn,
Committee Management Officer, Substance Abuse and Mental Health Services Administration.

[FR Doc. 02-18183 Filed 7-18-02; 8:45 am]

BILLING CODE 4162-20-U